ENVIRONMENTAL PROTECTION AGENCY

[EPA-HQ-OPPT-2020-0091; FRL-10008-80]

Certain New Chemicals or Significant New Uses; Statements of Findings for January Through December 2020

AGENCY: Environmental Protection Agency (EPA).

ACTION: Notice.

SUMMARY: The Toxic Substances Control Act (TSCA) requires EPA to publish in the Federal Register a statement of its findings after its review of TSCA notices when EPA makes a finding that a new chemical substance or significant new use is not likely to present an unreasonable risk of injury to health or the environment. Such statements apply to premanufacture notices (PMNs), microbial commercial activity notices (MCANs), and significant new use notices (SNUNs). This document presents statements of findings made by EPA on TSCA notices during the period from January 1, 2020 to December 31, 2020.

FOR FURTHER INFORMATION CONTACT:

For technical information contact: Rebecca Edelstein, New Chemicals Division (7405M), Office of Pollution Prevention and Toxics, Environmental Protection Agency, 1200 Pennsylvania Ave. NW, Washington, DC 20460-0001; telephone number: 202-564-1667; email address: Edelstein.Rebecca@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the PMNs addressed in this action.

B. How can I get copies of this document and other related information?

The docket for this action, identified by docket identification (ID) number EPA-HQ-OPPT-2020-0091, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

This document lists the statements of findings made by EPA after review of notices submitted under TSCA section 5(a) that certain new chemical substances or significant new uses are not likely to present an unreasonable risk of injury to health or the environment. This document presents statements of findings made by EPA during the period from January 1, 2020 to December 31, 2020.

III. What is the Agency's authority for taking this action?

TSCA section 5(a)(3) requires EPA to review a TSCA section 5(a) notice and make one of the following specific findings:

• The chemical substance or significant new use presents an unreasonable risk of injury to health or the environment;

• The information available to EPA is insufficient to permit a reasoned evaluation of the health and environmental effects of the chemical substance or significant new use;

• The information available to EPA is insufficient to permit a reasoned evaluation of the health and environmental effects and the chemical substance or significant new use may present an unreasonable risk of injury to health or the environment;

• The chemical substance is or will be produced in substantial quantities, and such substance either enters or may reasonably be anticipated to enter the environment in substantial quantities or there is or may be significant or substantial human exposure to the substance; or

• The chemical substance or significant new use is not likely to present an unreasonable risk of injury to health or the environment.

Unreasonable risk findings must be made without consideration of costs or other non-risk factors, including an unreasonable risk to a potentially exposed or susceptible subpopulation identified as relevant under the conditions of use. The term “conditions of use” is defined in TSCA section 3 to mean “the circumstances, as determined by the Administrator, under which a chemical substance is intended, known, or reasonably foreseen to be manufactured, processed, distributed in commerce, used, or disposed of.”

EPA is required under TSCA section 5(g) to publish in the Federal Register a statement of its findings after its review of a TSCA section 5(a) notice when EPA makes a finding that a new chemical substance or significant new use is not likely to present an unreasonable risk of injury to health or the environment. Such statements apply to PMNs, MCANs, and SNUNs submitted to EPA under TSCA section 5.

Anyone who plans to manufacture (which includes import) a new chemical substance for a non-exempt commercial purpose and any manufacturer or processor wishing to engage in a use of a chemical substance designated by EPA as a significant new use must submit a notice to EPA at least 90 days before commencing manufacture of the new chemical substance or before engaging in the significant new use. The submitter of a notice to EPA for which EPA has made a finding of “not likely to present an unreasonable risk of injury to health or the environment” may commence manufacture of the chemical substance or manufacture or processing for the significant new use notwithstanding any remaining portion of the applicable review period.

IV. Statements of Findings Under TSCA Section 5(a)(3)(C)

In this unit, EPA provides the following information (to the extent that such information is not claimed as Confidential Business Information (CBI)) on the PMNs, MCANs and SNUNs for which, during this period, EPA has made findings under TSCA section 5(a)(3)(C) that the new chemical substances or significant new uses are not likely to present an unreasonable risk of injury to health or the environment:

• EPA case number assigned to the TSCA section 5(a) notice.

• Chemical identity (generic name, if the specific name is claimed as CBI).

• Website link to EPA's decision document describing the basis of the “not likely to present an unreasonable risk” finding made by EPA under TSCA section 5(a)(3)(C).

EPA case No. | Chemical identity | Website link
P-20-0170, P-20-0171, P-20-0172 | Glycerin, alkoxylated alkyl acid esters (generic name) | https://www.epa.gov/reviewing-new-chemicals-under-toxic-substances-control-act-tsca/tsca-section-5a3c-determination-487.
P-20-0102 | Coal, brown, ammoxidized (CASRN: 2413186-32-8) | https://www.epa.gov/reviewing-new-chemicals-under-toxic-substances-control-act-tsca/tsca-section-5a3c-determination-486.
SN-20-0006 | Phenol,4,4′-[1-[4-[1-(4-hydroxyphenyl)-1-methylethyl]phenyl]ethylidene]bis- (CASRN: 110726-28-8) | https://www.epa.gov/reviewing-new-chemicals-under-toxic-substances-control-act-tsca/tsca-section-5a3c-determination-485.
P-20-0094 | Alkanedioic acid, polymer with tri-alkyl-isocyanatocarbomonocycle, dialkylglycols, ester with 2,3-dihydroxypropyl alkyl ester, 2-hydroxyethyl methacrylate-blocked (generic name) | https://www.epa.gov/reviewing-new-chemicals-under-toxic-substances-control-act-tsca/tsca-section-5a3c-determination-484.
P-20-0076 | Glycine, reaction products with sodium O-iso-Pr carbonodithioate, sodium salts (CASRN: 2205080-23-3) | https://www.epa.gov/reviewing-new-chemicals-under-toxic-substances-control-act-tsca/tsca-section-5a3c-determination-483.
P-19-0082 | Heptanal, 6-hydroxy-2,6-dimethyl- (CASRN: 62439-42-3) | https://www.epa.gov/reviewing-new-chemicals-under-toxic-substances-control-act-tsca/tsca-section-5a3c-determination-482.
P-20-0161 | Propanedioic acid, 2-methylene-, 1,3-diethyl ester, polymer with 1,4-butanediol (CASRN: 2364431-09-2) | https://www.epa.gov/reviewing-new-chemicals-under-toxic-substances-control-act-tsca/tsca-section-5a3c-determination-481.
P-20-0154 | Polyamines, reaction products with succinic anhydride polyalkenyl derivs, borates (generic name) | https://www.epa.gov/reviewing-new-chemicals-under-toxic-substances-control-act-tsca/tsca-section-5a3c-determination-480.
P-20-0146 | Alkanoic acid, alkyl, carbopolycyclic alkyl ester (generic name) | https://www.epa.gov/reviewing-new-chemicals-under-toxic-substances-control-act-tsca/tsca-section-5a3c-determination-479.
P-19-0038 | Fatty acids, coco, iso-Bu esters (CASRN: 91697-43-7) | https://www.epa.gov/reviewing-new-chemicals-under-toxic-substances-control-act-tsca/tsca-section-5a3c-determination-478.
P-18-0175 | Formaldehyde, polymer with 4-(1,1-dimethylethyl) phenol and phenol, Bu ether (CASRN: 2215936-67-5) | https://www.epa.gov/reviewing-new-chemicals-under-toxic-substances-control-act-tsca/tsca-section-5a3c-determination-477.
P-20-0048, P-20-0049 | P-20-0048: Reaction products of alkyl-terminated alkylaluminoxanes and dihalogeno(alkylcyclopentadienyl)(tetraalkylcyclopentadienyl)transition metal coordination compound (generic name), P-20-0049: Reaction products of alkyl-aluminoxanes and bis(alkylcyclodialkylene)dihalogenozirconium (generic name) | https://www.epa.gov/reviewing-new-chemicals-under-toxic-substances-control-act-tsca/tsca-section-5a3c-determination-476.
P-20-0160 | Amines, C-36-alkylenedi-, polymers with bicyclo[2.2.1]heptanedimethanamine, [5,5′-biisobenzofuran]-1,1′,3,3′-tetrone and 3a,4,4a,7a,8,8a-hexahydro-4,8-etheno-1H,3H-benzo[1,2-c:4,5-c′]difuran-1,3,5,7-tetrone, maleated (CASRN: 2415902-37-1) | https://www.epa.gov/reviewing-new-chemicals-under-toxic-substances-control-act-tsca/tsca-section-5a3c-determination-475.
P-20-0143 | Cyclohexanemethanamine, 5-amino-1,3,3-trimethyl-, polymer with a-hydro-w-hydroxypoly(oxy-1,4-butanediyl), 5- isocyanato-1-(isocyanatomethyl)-1,3,3-trimethylcyclohexane and 1,1-methylenebis[4-isocyanatobenzene] (CASRN: 2417925-50-7) | https://www.epa.gov/reviewing-new-chemicals-under-toxic-substances-control-act-tsca/tsca-section-5a3c-determination-474.
P-20-0098 | Calcium cycloalkylcarboxylate (generic name) | https://www.epa.gov/reviewing-new-chemicals-under-toxic-substances-control-act-tsca/tsca-section-5a3c-determination-473.
P-20-0061 | Formaldehyde, polymer with alkylphenols, alkyl ether (generic name) | https://www.epa.gov/reviewing-new-chemicals-under-toxic-substances-control-act-tsca/tsca-section-5a3c-determination-472.
P-18-0355 | Alkanediol, substituted alkyl, polymer with carbomonocyle, alkanedioate substituted carbomonocycle, ester with substituted alkanoate (generic name) | https://www.epa.gov/reviewing-new-chemicals-under-toxic-substances-control-act-tsca/tsca-section-5a3c-determination-471.
P-20-0111 | 1,2,4-Benzenetricarboxylic acid, 1,2,4-trinonyl ester (CASRN: 35415-27-1) | https://www.epa.gov/reviewing-new-chemicals-under-toxic-substances-control-act-tsca/tsca-section-5a3c-determination-470.
P-18-0337 | Propanedioic acid, 2,2-bis(hydroxymethyl)-, 1,3-dicyclohexyl ester (CASRN: 2222732-46-7) | https://www.epa.gov/reviewing-new-chemicals-under-toxic-substances-control-act-tsca/tsca-section-5a3c-determination-469.
P-16-0538 | 9-Octadecenoic acid (9Z)-, compound with N-cyclohexylcyclohexanamine (1:1) (CASRN: 22256-71-9) | https://www.epa.gov/reviewing-new-chemicals-under-toxic-substances-control-act-tsca/tsca-section-5a3c-determination-468.
P-18-0335 | Propanedioic acid, 1,3-dicyclohexyl ester (CASRN: 1152-57-4) | https://www.epa.gov/reviewing-new-chemicals-under-toxic-substances-control-act-tsca/tsca-section-5a3c-determination-467.
P-18-0334 | Propanedioic acid, 1,3-dihexyl ester (CASRN: 1431-37-4) | https://www.epa.gov/reviewing-new-chemicals-under-toxic-substances-control-act-tsca/tsca-section-5a3c-determination-466.
P-18-0330 | Formaldehyde, polymer with alkyl aryl ketone (generic name) | https://www.epa.gov/reviewing-new-chemicals-under-toxic-substances-control-act-tsca/tsca-section-5a3c-determination-465.
P-18-0289 | 2-(2(Methylcaboxymonocyclic)amino)ethoxy)-alcohol (generic name) | https://www.epa.gov/reviewing-new-chemicals-under-toxic-substances-control-act-tsca/tsca-section-5a3c-determination-464.
P-20-0099 | Mixed Metal Oxide (generic name) | https://www.epa.gov/reviewing-new-chemicals-under-toxic-substances-control-act-tsca/tsca-section-5a3c-determination-463.
P-20-0066 | 2-Propenoic acid, 2-hydroxyethyl ester, reaction products with dialkyl hydrogen heterosubstituted phosphate and dimethyl phosphonate (generic name) | https://www.epa.gov/reviewing-new-chemicals-under-toxic-substances-control-act-tsca/tsca-section-5a3c-determination-462.
P-19-0162 | Fatty acid alkyl amide, (dialkyl) amino alkyl, alkyl quaternized, salts (generic name) | https://www.epa.gov/reviewing-new-chemicals-under-toxic-substances-control-act-tsca/tsca-section-5a3c-determination-461.
P-18-0336 | Propanedioic acid, 2,2-bis(hydroxymethyl)-, 1,3-dihexyl ester (CASRN: 2222732-45-6) | https://www.epa.gov/reviewing-new-chemicals-under-toxic-substances-control-act-tsca/tsca-section-5a3c-determination-460.
P-17-0115 | Aminoalkyl alkoxysilane (generic name) | https://www.epa.gov/reviewing-new-chemicals-under-toxic-substances-control-act-tsca/tsca-section-5a3c-determination-459.
J-20-0009, J-20-0011 | Biofuel producing Saccharomyces cerevisiae modified, genetically stable (generic name) | https://www.epa.gov/reviewing-new-chemicals-under-toxic-substances-control-act-tsca/tsca-section-5a3c-determination-458.
J-20-0007, J-20-0008 | Biofuel producing Saccharomyces cerevisiae modified, genetically stable (generic name) | https://www.epa.gov/reviewing-new-chemicals-under-toxic-substances-control-act-tsca/tsca-section-5a3c-determination-457.
J-20-0012 | Biofuel producing Saccharomyces cerevisiae modified, genetically stable (generic name) | https://www.epa.gov/reviewing-new-chemicals-under-toxic-substances-control-act-tsca/tsca-section-5a3c-determination-456.
P-18-0308 | Bis((hydroxyalkoxy)aryl)carbopolycyclic (generic name) | https://www.epa.gov/reviewing-new-chemicals-under-toxic-substances-control-act-tsca/tsca-section-5a3c-determination-455.
P-18-0370, P-18-0371 | Salt of a maleic anhydride and substituted alkene copolymer (generic name), Salt of a maleic anhydride—substituted alkene copolymer (generic name) | https://www.epa.gov/reviewing-new-chemicals-under-toxic-substances-control-act-tsca/tsca-section-5a3c-determination-454.
P-18-0369 | Maleic anhydride—substituted alkene copolymer (generic name) | https://www.epa.gov/reviewing-new-chemicals-under-toxic-substances-control-act-tsca/tsca-section-5a3c-determination-453.
P-19-0147 | Alkoxylated butyl alkyl ester (generic name) | https://www.epa.gov/reviewing-new-chemicals-under-toxic-substances-control-act-tsca/tsca-section-5a3c-determination-452.
P-18-0036 | Siloxanes and Silicones, di-Me, 3-[3-carboxy-2(or 3)-(octenyl)-1-oxopropoxy]propyl group-terminated (CASRN: 403616-34-2) | https://www.epa.gov/reviewing-new-chemicals-under-toxic-substances-control-act-tsca/tsca-section-5a3c-determination-451.
P-18-0382 | Xanthylium, bis[dicarboxycyclic]sulfonylamino-alkylcyclicamino-disulfo-sulfocyclic-, inner salt, monocationic salt (generic name) | https://www.epa.gov/reviewing-new-chemicals-under-toxic-substances-control-act-tsca/tsca-section-5a3c-determination-450.
P-18-0359 | Methoxy vinyl ether-vinylidene fluoride polymer (generic name) | https://www.epa.gov/reviewing-new-chemicals-under-toxic-substances-control-act-tsca/tsca-section-5a3c-determination-449.
P-17-0333 | Fatty acid dimers, polymer with acrylic acid and pentaerythritol reaction products (generic name) | https://www.epa.gov/reviewing-new-chemicals-under-toxic-substances-control-act-tsca/tsca-section-5a3c-determination-448.
P-20-0068 | 1,3-Propanediol, 2,2-dimethyl-, 1,3-diacetate (CASRN: 13431-57-7) | https://www.epa.gov/reviewing-new-chemicals-under-toxic-substances-control-act-tsca/tsca-section-5a3c-determination-447.
P-20-0040 | 2-Propenoic acid, cycloalkyl ester (generic name) | https://www.epa.gov/reviewing-new-chemicals-under-toxic-substances-control-act-tsca/tsca-section-5a3c-determination-446.
P-20-0038 | 1,3,5-Triazine-2,4,6(1H,3H,5H)-trione, 1,3,5-tris[3-(2-oxiranyl)propyl]- (CASRN: 91403-64-4) | https://www.epa.gov/reviewing-new-chemicals-under-toxic-substances-control-act-tsca/tsca-section-5a3c-determination-445.
P-20-0015 | N-alkyl heteromonocyclic diphenolamide, polymer with Bisphenol A, haloaryl-substituted sulfone, compd. with cyclic sulfonate ester, polyaryl alcohol terminated (generic name) | https://www.epa.gov/reviewing-new-chemicals-under-toxic-substances-control-act-tsca/tsca-section-5a3c-determination-444.
P-18-0400 | Rosin adduct ester, polymer with polyols, potassium salt (generic name) | https://www.epa.gov/reviewing-new-chemicals-under-toxic-substances-control-act-tsca/tsca-section-5a3c-determination-443.
P-18-0399 | Rosin adduct ester, polymer with polyols, compd. with ethanolamine (generic name) | https://www.epa.gov/reviewing-new-chemicals-under-toxic-substances-control-act-tsca/tsca-section-5a3c-determination-442.
P-18-0363 | Phenol, polymer with formaldehyde, substituted phenol, sodium salt (generic name) | https://www.epa.gov/reviewing-new-chemicals-under-toxic-substances-control-act-tsca/tsca-section-5a3c-determination-441.
P-18-0320 | Alkane, diisocyanato-(isocyanatoalkyl)- (generic name) | https://www.epa.gov/reviewing-new-chemicals-under-toxic-substances-control-act-tsca/tsca-section-5a3c-determination-440.
P-16-0313 | Tar acids (shale oil), C6-9 fraction, alkylphenols, low-boiling (CASRN: 1887000-93-2) | https://www.epa.gov/reviewing-new-chemicals-under-toxic-substances-control-act-tsca/tsca-section-5a3c-determination-439.
P-16-0512 | Fatty acid dimers, polymer with acrylic acid and pentaerythritol reaction products (generic name) | https://www.epa.gov/reviewing-new-chemicals-under-toxic-substances-control-act-tsca/tsca-section-5a3c-determination-438.
P-20-0103 | Cycloaliphatic amine formate (generic name) | https://www.epa.gov/reviewing-new-chemicals-under-toxic-substances-control-act-tsca/tsca-section-5a3c-determination-437.
P-20-0090 | Poly(oxy-1,2-ethanediyl), .alpha.-(alkyl-hydroxyalkyl)-.omega.-hydroxy-, .omega.-alkyl ethers (generic name) | https://www.epa.gov/reviewing-new-chemicals-under-toxic-substances-control-act-tsca/tsca-section-5a3c-determination-436.
P-20-0086 | 2-Oxepanone, homopolymer, ester with hydroxyalkyl trioxo heteromonocyclic (3:1) (generic name) | https://www.epa.gov/reviewing-new-chemicals-under-toxic-substances-control-act-tsca/tsca-section-5a3c-determination-435.
P-20-0035 | Substituted aromatic, 3,3′-bis[substituted, sodium salt] (generic name) | https://www.epa.gov/reviewing-new-chemicals-under-toxic-substances-control-act-tsca/tsca-section-5a3c-determination-434.
P-20-0011 | Tetraoxaspiro[5.5]alkyl-3,9-diylbis(alkyl-2,1-diyl) bis(2-cyano-3-(3,4-dimethoxyphenyl)acrylate) (generic name) | https://www.epa.gov/reviewing-new-chemicals-under-toxic-substances-control-act-tsca/tsca-section-5a3c-determination-433.
SN-19-0006 | 2-Propen-1-one, 1-(4-morpholinyl)- (CASRN: 5117-12-4) | https://www.epa.gov/reviewing-new-chemicals-under-toxic-substances-control-act-tsca/tsca-section-5a3c-determination-432.
P-18-0378 | Acrylic and Methacrylic acids and esters, polymer with alkenylimidazole, alkyl polyalkylene glycol, alkenylbenzene, alkylbenzeneperoxoic acid ester initiated, compds. with Dialkylaminoalkanol (generic name) | https://www.epa.gov/reviewing-new-chemicals-under-toxic-substances-control-act-tsca/tsca-section-5a3c-determination-431.
P-18-0263 | Mixed alkyl esters-, polymer with N1-(2-aminoethyl)- l,2-ethanediamine, aziridine, Nacetyl derivs., acetates (salts) (generic name) | https://www.epa.gov/reviewing-new-chemicals-under-toxic-substances-control-act-tsca/tsca-section-5a3c-determination-430.
P-15-0633 | 1(2H)-Naphthalenone,4-ethyloctahydro-8-methyl- (CASRN: 870515-09-6) | https://www.epa.gov/reviewing-new-chemicals-under-toxic-substances-control-act-tsca/tsca-section-5a3c-determination-429.
P-20-0074 | Oxirane, 2-methyl-, polymer with oxirane, monoundecyl ether, branched and linear (CASRN: 2222805-23-2) | https://www.epa.gov/reviewing-new-chemicals-under-toxic-substances-control-act-tsca/tsca-section-5a3c-determination-428.
P-20-0069 | 2-Propenoic acid, 2-methyl-, polymer with 2-hydroxyethyl 2-methyl-2-propenoate phosphate and 2-propenoic acid salt, peroxydisulfuric acid ([(HO)S(O)2]2O2) sodium salt (1:2)- and sodium (disulfite) (2:1)-initiated (generic name) | https://www.epa.gov/reviewing-new-chemicals-under-toxic-substances-control-act-tsca/tsca-section-5a3c-determination-427.
P-20-0057 | Arene, trimethoxysilyl-, hydrolyzed (generic name) | https://www.epa.gov/reviewing-new-chemicals-under-toxic-substances-control-act-tsca/tsca-section-5a3c-determination-426.
P-20-0056 | Polyphosphoric acids, 2-[(alkyl-1-oxo-alkene-1-yl)oxy]alkyl esters, polymers with acrylic acid, alkyl acrylate, alkyl methacrylate, hydroxyalkyl methacrylate and carbomonocycle, 2,2′-(1,2-diazenediyl)bis[2,4-dialkylalkanenitrogensubstituted]-initiated (generic name) | https://www.epa.gov/reviewing-new-chemicals-under-toxic-substances-control-act-tsca/tsca-section-5a3c-determination-425.
P-19-0161 | Alkanol amine salt mixture (generic name) | https://www.epa.gov/reviewing-new-chemicals-under-toxic-substances-control-act-tsca/tsca-section-5a3c-determination-424.
P-19-0116 | sr-(Wasp Spider Polypeptide-1 Oligopeptide-178) (generic name) | https://www.epa.gov/reviewing-new-chemicals-under-toxic-substances-control-act-tsca/tsca-section-5a3c-determination-423.
P-19-0064 | 4,4′-Methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol (generic name) | https://www.epa.gov/reviewing-new-chemicals-under-toxic-substances-control-act-tsca/tsca-section-5a3c-determination-422.
P-18-0396 | Alkenoic acid, alkyl, polymer with carbomonocyle alkyl propenoate and substituted alkyl alkenoate, ester with substituted alkyl alkanoate, tert-butyl substituted peroxoate-initiated (generic name) | https://www.epa.gov/reviewing-new-chemicals-under-toxic-substances-control-act-tsca/tsca-section-5a3c-determination-421.
P-16-0449 | 2,7-Decadienal, (2E,7Z)- (CASRN: 52711-52-1) | https://www.epa.gov/reviewing-new-chemicals-under-toxic-substances-control-act-tsca/tsca-section-5a3c-determination-420.
P-16-0326 | Propanoic acid, 2,2-dimethyl-, 1-methyl-2-(1-methylethoxy)-2-oxoethyl ester (CASRN: 1821051-37-9) | https://www.epa.gov/reviewing-new-chemicals-under-toxic-substances-control-act-tsca/tsca-section-5a3c-determination-419.
P-17-0324 | 2,4-Hexadien-1-ol, 1-acetate, (2E,4E)- (CASRN: 57006-69-6) | https://www.epa.gov/reviewing-new-chemicals-under-toxic-substances-control-act-tsca/tsca-section-5a3c-determination-418.
P-20-0037 | Lithium Chloride (6LiCl) (CASRN: 20227-31-0) | https://www.epa.gov/reviewing-new-chemicals-under-toxic-substances-control-act-tsca/tsca-section-5a3c-determination-417.
P-20-0036 | Carbonic acid, di(lithium-6Li) salt (CASRN: 25890-20-4) | https://www.epa.gov/reviewing-new-chemicals-under-toxic-substances-control-act-tsca/tsca-section-5a3c-determination-416.
P-19-0109 | Copper, bis[2-(amino-.kappa.N)ethanolato-.kappa.O]- (CASRN 14215-52-2); Copper, (2-)]- (CASRN: 21545-60-8) | https://www.epa.gov/reviewing-new-chemicals-under-toxic-substances-control-act-tsca/tsca-section-5a3c-determination-415.
P-19-0088 | Ethanamine, N-ethyl-, 2-hydroxy-1,2,3-propanetricarboxylate (1:?) (CASRN: 23251-73-2) | https://www.epa.gov/reviewing-new-chemicals-under-toxic-substances-control-act-tsca/tsca-section-5a3c-determination-414.
P-19-0019 | Haloalkane (generic name) | https://www.epa.gov/reviewing-new-chemicals-under-toxic-substances-control-act-tsca/tsca-section-5a3c-determination-413.
P-18-0271 | 2-Propanol, 1-butoxy-, 2,2′-ester (generic name) | https://www.epa.gov/reviewing-new-chemicals-under-toxic-substances-control-act-tsca/tsca-section-5a3c-determination-412.
P-18-0151 | Formaldehyde, reaction products with 1,3-benzenedimethanamine and p-tert-butylphenol (CASRN: 158800-93-2) | https://www.epa.gov/reviewing-new-chemicals-under-toxic-substances-control-act-tsca/tsca-section-5a3c-determination-411.
P-17-0195 | 1,3-Propanediol,2-methylene-, substituted (generic name) | https://www.epa.gov/reviewing-new-chemicals-under-toxic-substances-control-act-tsca/tsca-section-5a3c-determination-410.
P-10-0542 | Amide, polyprotic acid (generic name) | https://www.epa.gov/reviewing-new-chemicals-under-toxic-substances-control-act-tsca/tsca-section-5a3c-determination-409.
P-18-0380 | Butanoic acid ethyl amine (generic name) | https://www.epa.gov/reviewing-new-chemicals-under-toxic-substances-control-act-tsca/tsca-section-5a3c-determination-408.
P-18-0332, P-18-0333 | (P-18-0332): Canola meal (CASRN: 121957-95-7), (P-18-0333): Flaxseed meal (CASRN: 2211120-89-5) | https://www.epa.gov/reviewing-new-chemicals-under-toxic-substances-control-act-tsca/tsca-section-5a3c-determination-407.
J-20-0003, J-20-0004 | Genetically modified microorganism (generic name) | https://www.epa.gov/reviewing-new-chemicals-under-toxic-substances-control-act-tsca/tsca-section-5a3c-determination-406.
P-20-0050 | Benzenepentanol, .alpha.,.gamma.-dimethyl- (CASRN: 72681-01-7) | https://www.epa.gov/reviewing-new-chemicals-under-toxic-substances-control-act-tsca/tsca-section-5a3c-determination-405.
P-20-0012 | Polyol, polymer with alkyl diisocyanate, alkyl substituted heterocycle blocked (generic name) | https://www.epa.gov/reviewing-new-chemicals-under-toxic-substances-control-act-tsca/tsca-section-5a3c-determination-404.
P-18-0362 | 1,3-Propanediol, 2-ethyl-2-(hydroxymethyl)-, polymer with 2,4-diisocyanato-1-methylbenzene, .alpha.-hydro-.omega.-hydroxypoly[oxy(methyl-1,2-ethanediyl)] and .alpha.,.alpha.′,.alpha.″-1,2,3-propanetriyltris[.omega.-hydroxypoly[oxy(methyl-1,2-ethanediyl)]], Me Et ketone oxime -blocked (CASRN: 1661004-48-3); polymer exemption flag, Polymer exemption flag: The chemical must be manufactured such that it meets the polymer exemption criteria as described under 40 CFR 723.250(e)(1), in addition to meeting the definition of polymer at 40 CFR 723.250(b) | https://www.epa.gov/reviewing-new-chemicals-under-toxic-substances-control-act-tsca/tsca-section-5a3c-determination-403.
P-18-0168 | Alkoxylated triaryl methane (generic name) | https://www.epa.gov/reviewing-new-chemicals-under-toxic-substances-control-act-tsca/tsca-section-5a3c-determination-402.
P-17-0389 | Alkyl oil, polymer with 1,4-cyclohexanedimethanol, dehydrated Alkyl oil, hydrogentated rosin, phthalic anhydride and trimethylolpropane (generic name) | https://www.epa.gov/reviewing-new-chemicals-under-toxic-substances-control-act-tsca/tsca-section-5a3c-determination-401.
P-20-0052 | Oxirane, 2-methyl-, polymer with oxirane, mono(3,5,5-trimethylhexanoate) (CASRN: 148263-50-7) | https://www.epa.gov/reviewing-new-chemicals-under-toxic-substances-control-act-tsca/tsca-section-5a3c-determination-400.
P-17-0294 | 2-Butanone, 3-methyl-, peroxide (CASRN: 182893-11-4) | https://www.epa.gov/reviewing-new-chemicals-under-toxic-substances-control-act-tsca/tsca-section-5a3c-determination-399.
P-17-0086 | Cycloalkyl, bis(ethoxyalkyl)-, trans-; Cycloalkyl, bis(ethoxyalkyl)-, cis- (generic name) | https://www.epa.gov/reviewing-new-chemicals-under-toxic-substances-control-act-tsca/tsca-section-5a3c-determination-398.
P-20-0041 | 1,3-Benzenedicarboxylic acid, polymer with 3-methyl-1,5-pentanediol (CASRN: 76962-70-4) | https://www.epa.gov/reviewing-new-chemicals-under-toxic-substances-control-act-tsca/tsca-section-5a3c-determination-397.
P-19-0136 | iso-alkylamine, N-isoalkyl-N-methyl (generic name) | https://www.epa.gov/reviewing-new-chemicals-under-toxic-substances-control-act-tsca/tsca-section-5a3c-determination-396.
P-19-0174 | Octadecanoic acid, (alkylphosphinyl), polyol ester (generic name) | https://www.epa.gov/reviewing-new-chemicals-under-toxic-substances-control-act-tsca/tsca-section-5a3c-determination-395.
P-18-0262 | 2-Propenoic acid, 2-methyl-, dodecyl ester, polymer with ammonium 2-methyl-2-[(1-oxo-2-propen-1-yl)amino]-1-propanesulfonate (1:1), N,N-dimethyl-2-propenamide and .alpha.-(2-methyl-1-oxo-2-propen-1-yl)-.omega.-(dodecyloxy)poly(oxy-1,2-ethanediyl) (CASRN:1190091-71-4) | https://www.epa.gov/reviewing-new-chemicals-under-toxic-substances-control-act-tsca/tsca-section-5a3c-determination-394.
P-20-0054 | Nitrile hydratase NH-6L (generic name) | https://www.epa.gov/reviewing-new-chemicals-under-toxic-substances-control-act-tsca/tsca-section-5a3c-determination-393.
P-19-0134 | 5-isocyanato-1-(isocyanatomethyl)-1,3,3-trimethylcyclohexane], [Poly[oxy(methyl-1,2-ethanediyl)], .alpha.-hydro-.omega.-hydroxy-, polymer with 1,6-diisocyanatohexane], polymer with [Poly(oxy-1,4-butanediyl), .alpha.-hydro-.omega.-hydroxy-], [Cyclic amine—ketone adduct, reduced], and [1,3-Propanediol, 2-ethyl-2-(hydroxymethyl) (generic name) | https://www.epa.gov/reviewing-new-chemicals-under-toxic-substances-control-act-tsca/tsca-section-5a3c-determination-392.
P-18-0098 | Polyphosphoric acids, polymers with (alkoxyalkoxy)alkanol and substituted heteromonocycle (generic name) | https://www.epa.gov/reviewing-new-chemicals-under-toxic-substances-control-act-tsca/tsca-section-5a3c-determination-391.
P-20-0027, P-20-0028 | (P-20-0027): Glycols, .alpha.,.omega.-, C2-6, polymers with adipic aicd, dodecanedioic acid, hydracrylic acid polyester, isophthalic acid, isophthalic acid, 1,1′-methylenebis[4-isocyanatobenzene], neopentyl glycol and terephthalic acid (generic name), (P-20-0028): Glycols, .alpha.,.omega.-, C2-6, polymers with adipic acid, aromatic polyester, dodecanedioic acid, hydracrylic acid polyester, isophthalic acid, 1,1′-methylenebis[4-isocyanatobenzene], neopentyl glycol and terephthalic acid (generic name) | https://www.epa.gov/reviewing-new-chemicals-under-toxic-substances-control-act-tsca/tsca-section-5a3c-determination-390.
P-19-0189 | Fatty acids, polymers with alkanediol and 1,1′-methylenebis[4-isocyanatobenzene] (generic name) | https://www.epa.gov/reviewing-new-chemicals-under-toxic-substances-control-act-tsca/tsca-section-5a3c-determination-389.
P-18-0376 | Thiosulfuric acid, aminoalkyl ester (generic name) | https://www.epa.gov/reviewing-new-chemicals-under-toxic-substances-control-act-tsca/tsca-section-5a3c-determination-388.
P-18-0150 | Tertiary amine, compounds with amino sulfonic acid blocked aliphatic isocyanate homopolymer (generic name) | https://www.epa.gov/reviewing-new-chemicals-under-toxic-substances-control-act-tsca/tsca-section-5a3c-determination-387.
P-18-0381 | Indium manganese yttrium oxide (CASRN: 1239902-45-4) | https://www.epa.gov/reviewing-new-chemicals-under-toxic-substances-control-act-tsca/tsca-section-5a3c-determination-386.
P-18-0060 | 1-Butanaminium, 4-amino-N-(2-hydroxy-3-sulfopropyl)-N,N-dimethyl-4-oxo-, N-coco alkyl derivs., inner salts (CASRN: 2041102-83-2) | https://www.epa.gov/reviewing-new-chemicals-under-toxic-substances-control-act-tsca/tsca-section-5a3c-determination-385.
P-18-0059 | Butanoic acid, 4-(dimethylamino)-, ethyl ester (CASRN: 22041-23-2) | https://www.epa.gov/reviewing-new-chemicals-under-toxic-substances-control-act-tsca/tsca-section-5a3c-determination-384.
P-16-0420 | Dimethyl cyclohexenyl propanol (generic name) | https://www.epa.gov/reviewing-new-chemicals-under-toxic-substances-control-act-tsca/tsca-section-5a3c-determination-383.
P-18-0364 | Alkali humates, polymers with substituted acrylamides (generic name) | https://www.epa.gov/reviewing-new-chemicals-under-toxic-substances-control-act-tsca/tsca-section-5a3c-determination-382.
P-17-0240 | Alkenoic acid, polymer with alkanepolyolpolyacrylate, 2,2′-azobis[2-methylbutanenitrile]-initiated (generic name) | https://www.epa.gov/reviewing-new-chemicals-under-toxic-substances-control-act-tsca/tsca-section-5a3c-determination-381.
J-20-0002 | Microorganism with chromosomally-borne genetic modifications for the production of a chemical (generic name) | https://www.epa.gov/reviewing-new-chemicals-under-toxic-substances-control-act-tsca/tsca-section-5a3c-determination-380.
P-20-0022 | Polyalkoxycarbopolycycle hydroxy (generic name) | https://www.epa.gov/reviewing-new-chemicals-under-toxic-substances-control-act-tsca/tsca-section-5a3c-determination-379.
P-17-0364 | Dicyloalkyl-alkane-di-isocyanate homopolymer, alkyl alcohol and polyalkyl glycol mono-alkyl-ether-blocked (generic name) | https://www.epa.gov/reviewing-new-chemicals-under-toxic-substances-control-act-tsca/tsca-section-5a3c-determination-378.
J-19-0001 | Trichoderma reesei 3CH-3 | https://www.epa.gov/reviewing-new-chemicals-under-toxic-substances-control-act-tsca/tsca-section-5a3c-determination-377.
P-20-0013 | (P-20-0013): 2-Propenoic acid, 2-methyl-, (2-oxo-1,3-dioxolan-4-yl)methyl ester (CASRN: 13818-44-5) | https://www.epa.gov/reviewing-new-chemicals-under-toxic-substances-control-act-tsca/tsca-section-5a3c-determination-376.
P-18-0391 | 1-Propanaminium, N-(carboxymethyl)-N, N-dimethyl-3-[(3,5, 5-trimethyl-1-oxohexyl), amino]- inner salt (CASRN: 2169783-63-3) | https://www.epa.gov/reviewing-new-chemicals-under-toxic-substances-control-act-tsca/tsca-section-5a3c-determination-375.
P-18-0267, P-18-0268, P-18-0269 | (P-18-0267): Branched alkanoic acid, epoxy ester, reaction products with monocyclic dialkylamine and polycyclic alcohol epoxy polymer (generic name), (P-18-0268): Branched alkanoic acid, epoxy ester, reaction products with monocyclicdialkanamine and polycyclic dialkanol ether polymer (generic name), (P-18-0269): Branched alkanoic acid, epoxy ester, reaction products with monocyclicalkanamine, polycyclic alcohol ether homopolymer, and polycyclic alcohol epoxy polymer (generic name) | https://www.epa.gov/reviewing-new-chemicals-under-toxic-substances-control-act-tsca/tsca-section-5a3c-determination-374.
P-20-0024 | (P-20-0024): Phenol-formaldehyde polymer with amino-oxirane copolymer and nitrobenzoates. (generic name) | https://www.epa.gov/reviewing-new-chemicals-under-toxic-substances-control-act-tsca/tsca-section-5a3c-determination-373.
P-20-0008 | 7-Heteropolycyclicsulfonic acid, 2-[4-[2-[1-[[(2-methoxy-5-methyl-4-sulfophenyl)amino]carbonyl]-2-oxopropyl]diazenyl]phenyl]-6-methyl-, compd. with (alkylamino) alkanol and (hydroxyalkyl) amine (generic name) | https://www.epa.gov/reviewing-new-chemicals-under-toxic-substances-control-act-tsca/tsca-section-5a3c-determination-372.
P-19-0170 | Alkenoic acid, alkyl-substituted, epoxy ester, polymer with alkyl alkenoate, alkene, and polylactide (generic name) | https://www.epa.gov/reviewing-new-chemicals-under-toxic-substances-control-act-tsca/tsca-section-5a3c-determination-371.
P-18-0389 | Alkenoic acid, alkyl-substituted, epoxy ester, polymer with alkyl alkenoate, alkene, and polylactide (generic name) | https://www.epa.gov/reviewing-new-chemicals-under-toxic-substances-control-act-tsca/tsca-section-5a3c-determination-370.
P-18-0211 | Alkaneamine, (aminoalkyl)-, polymer with aziridine and 1,6-diisocyanatohexane, polyethylene glycol alkyl ether- and polyethylene-polypropylene glycol aminoalkyl alkyl ether- and alkenyl benzenated polyethylene glycol Ph ether (generic name) | https://www.epa.gov/reviewing-new-chemicals-under-toxic-substances-control-act-tsca/tsca-section-5a3c-determination-369.
P-18-0187 | Carboxylic acid-polyamine condensate (generic name) | https://www.epa.gov/reviewing-new-chemicals-under-toxic-substances-control-act-tsca/tsca-section-5a3c-determination-368.
P-17-0355 | Benzoic acid, 2-hydroxy-, -alkyl derivs (generic name) | https://www.epa.gov/reviewing-new-chemicals-under-toxic-substances-control-act-tsca/tsca-section-5a3c-determination-367.
P-19-0164 | Bis-alkoxy substituted alkane, polymer with aminoalkanol (generic name) | https://www.epa.gov/reviewing-new-chemicals-under-toxic-substances-control-act-tsca/tsca-section-5a3c-determination-366.
P-19-0158 | Alkenoic acid polymer with 2-ethyl-2-(hydroxymethyl)-1,3-alkyldiol, 1,1′-methylenebis(4-isocyanatocarbomonocycle) and 3-methyl-1,5-aklydiol (generic name) | https://www.epa.gov/reviewing-new-chemicals-under-toxic-substances-control-act-tsca/tsca-section-5a3c-determination-365.
P-18-0367 | Acid-modified polyether (generic name) | https://www.epa.gov/reviewing-new-chemicals-under-toxic-substances-control-act-tsca/tsca-section-5a3c-determination-364.
P-18-0199 | Rare earth oxide (generic name) | https://www.epa.gov/reviewing-new-chemicals-under-toxic-substances-control-act-tsca/tsca-section-5a3c-determination-363.
P-18-0126 | Calcium manganese titanium oxide (CASRN: 153728-36-0) | https://www.epa.gov/reviewing-new-chemicals-under-toxic-substances-control-act-tsca/tsca-section-5a3c-determination-362.
P-18-0058 | Phosphonium, trihexyltetradecyl-, salt with 1,1,1-trifluoro-N-[(trifluoromethyl)sulfonyl]methanesulfonamide (1:1) (CASRN: 460092-03-9) | https://www.epa.gov/reviewing-new-chemicals-under-toxic-substances-control-act-tsca/tsca-section-5a3c-determination-361.
P-18-0236 | Metal, alkenoic acid-alkyl alkenoate-alkyl substituted alkenoate polymer carbopolycycle complexes (generic name) | https://www.epa.gov/reviewing-new-chemicals-under-toxic-substances-control-act-tsca/tsca-section-5a3c-determination-360.
P-18-0108 | Aromatic anhydride polymer with bisalkylbiphenylbisamine compound with alkylaminoalkyl acrylate ester (generic name) | https://www.epa.gov/reviewing-new-chemicals-under-toxic-substances-control-act-tsca/tsca-section-5a3c-determination-359.
P-18-0031 | Substituted dicarboxylic acid, polymer with various alkanediols (generic name) | https://www.epa.gov/reviewing-new-chemicals-under-toxic-substances-control-act-tsca/tsca-section-5a3c-determination-358.
SN-17-0011 | Polyfluorohydrocarbon (generic name) | https://www.epa.gov/reviewing-new-chemicals-under-toxic-substances-control-act-tsca/tsca-section-5a3c-determination-357.
J-20-0001 | Biofuel producing Saccharomyces cerevisiae modified, genetically stable (generic name) | https://www.epa.gov/reviewing-new-chemicals-under-toxic-substances-control-act-tsca/tsca-section-5a3c-determination-356.
P-18-0328 | Plant oil fatty acids, alkyl esters (generic name) | https://www.epa.gov/reviewing-new-chemicals-under-toxic-substances-control-act-tsca/tsca-section-5a3c-determination-355.
P-18-0067 | Fatty acids, C14-18 and C16-18-unsatd., polymers with adipic acid and triethanolamine, di-Me sulfate-quaternized (CASRN: 1211825-32-9) | https://www.epa.gov/reviewing-new-chemicals-under-toxic-substances-control-act-tsca/tsca-section-5a3c-determination-353.

Authority: 15 U.S.C. 2601 et seq.

Dated: March 4, 2021.
Madison Le,
Director, New Chemicals Division, Office of Pollution Prevention and Toxics.

[FR Doc. 2021-04978 Filed 3-9-21; 8:45 am]

BILLING CODE 6560-50-P